FEDERAL ELECTION COMMISSION

Sunshine Act Notices

* * * * *

PREVIOUSLY ANNOUNCED DATE AND TIME: Thursday, January 13, 2005, 10 a.m. meeting open to the public. This meeting has been cancelled.

* * * * *

FOR FURTHER INFORMATION CONTACT: Mr. Robert Biersack, Press Officer, Telephone: (202) 694-1220.

Mary W. Dove,
Secretary of the Commission.

[FR Doc. 05-812 Filed 1-11-05; 11:21 am]

BILLING CODE 6715-01-M